DEPARTMENT OF THE INTERIOR

National Park Service

Notice of Inventory Completion: Saint Martin's Waynick Museum, Lacey, WA

AGENCY: National Park Service, Interior.

ACTION: Notice.

Notice is here given in accordance with the Native American Graves Protection and Repatriation Act (NAGPRA), 25 U.S.C. 3003, of the completion of an inventory of human remains in the possession of the Saint Martin's Waynick Museum, Lacey, WA. The human remains were removed from a site near Vantage, Kittitas County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Saint Martin's Waynick Museum professional staff in consultation with representatives of the Confederated Tribes of the Colville Reservation, Washington; Confederated Tribes and Bands of the Yakama Nation, Washington; and Wanapum Band, a non-Federally recognized Indian group.

At an unknown date, human remains representing a minimum of one individual were removed from a site near Vantage, by the Interstate-90 Bridge, in Kittitas County, WA. Around 1995, Mr. Willis Clark donated the human remains to the Saint Martin's Waynick Museum, along with his collection of cut and polished rocks. No known individual was identified. No associated funerary objects are present.

The remains of this individual consist of a partly fragmented cranium, a mandible broken into three pieces, eight unattached teeth, and skull fragments. On August 18, 2006, Dr. Stephen Fulton, Associate Professor of Biology at Saint Martin's University, concluded that the human remains in question match notes on an index card that was in the same box as the remains. The note states, “This skull and bones found in shallow grave some 20 years ago on the bank of the Columbia River, about 5 miles from old Vantage bridge. The area is under water at present.”

Ethnographic documentation indicates that the Vantage area was the aboriginal territory of the Moses-Columbia or Sinkiuse, Yakama, and Wanapum (Daugherty 1973, Miller 1998, Mooney 1896, Ray 1936, Spier 1936), whose descendants are represented today by the Confederated Tribes of the Colville Reservation, Washington; Confederated Tribes and Bands of the Yakama Nation, Washington; and Wanapum Band, a non-Federally recognized Indian group.

Officials of the Saint Martin's Waynick Museum have determined that, pursuant to 25 U.S.C. 3001 (9-10), the human remains described above represent the physical remains of one individual of Native American ancestry. Officials of the Saint Martin's Waynick Museum also have determined that, pursuant to 25 U.S.C. 3001 (2), there is a relationship of shared group identity that can be reasonably traced between the Native American human remains and the Confederated Tribes of the Colville Reservation, Washington; Confederated Tribes and Bands of the Yakama Nation, Washington; and Wanapum Band, a non-Federally recognized Indian group.

Representatives of any other Indian tribe that believes itself to be culturally affiliated with the human remains should contact Brother Luke Devine, Saint Martin's Waynick Museum, 5300 Pacific Ave. SE., Lacey, WA 98503, telephone (360) 438-4458, before September 21, 2009. Repatriation of the human remains to the Confederated Tribes of the Colville Reservation, Washington; Confederated Tribes and Bands of the Yakama Nation, Washington; and Wanapum Band, a non-Federally recognized Indian group, as joint claimants, may proceed after that date if no additional claimants come forward.

Saint Martin's Waynick Museum is responsible for notifying the Confederated Tribes of the Colville Reservation, Washington; Confederated Tribes and Bands of the Yakama Nation, Washington; and Wanapum Band, a non-Federally recognized Indian group, that this notice has been published.

Dated: August 7, 2009
Sherry Hutt,
Manager, National NAGPRA Program.

[FR Doc. E9-20104 Filed 8-20-09; 8:45 am]

BILLING CODE 4312-50-S